DEPARTMENT OF HEALTH AND HUMAN SERVICES

National Institutes of Health

National Human Genome Research Institute; Amended Notice of Meeting

Notice is hereby given of a change in the meeting of the National Human Genome Research Institute Special Emphasis Panel, October 29, 2012, 8:00 a.m. to October 30, 2012, 5:00 p.m., Residence Inn Bethesda Downtown, 7335 Wisconsin Avenue, Montgomery I & II, Bethesda, MD 20814 which was published in the Federal Register on October 4, 2012, 77 FR 60706.

Due to Hurricane Sandy, this meeting has been moved from October 29-30, 2012 to January 7, 2013. The meeting is closed to the public.

Dated: November 5, 2012.
David Clary,
Program Analyst, Office of Federal Advisory Committee Policy.

[FR Doc. 2012-27429 Filed 11-8-12; 8:45 am]

BILLING CODE 4140-01-P